DEPARTMENT OF THE TREASURY

United States Mint

2024 Pricing of Numismatic Gold, Commemorative Gold, Platinum, and Palladium Products Grid

AGENCY: United States Mint, Department of the Treasury.

ACTION: Notice.

The United States Mint announces 2024 revisions within the Numismatic Gold, Commemorative Gold, Platinum, and Palladium Products Grid to include pricing for the Flowing Hair 24K gold proof coin.

A draft of the grid with price range for the Flowing Hair 24K One-Ounce Gold Proof Coin appears in the table below.

The complete 2024 Pricing of Numismatic Gold, Commemorative Gold, Platinum, and Palladium Products Grid will be available at https://www.usmint.gov/content/dam/usmint/shop/Pricing-Grid.pdf.

Pricing can vary weekly dependent upon the London Bullion Market Association gold, platinum, and palladium prices weekly average. The pricing for all United States Mint numismatic gold, platinum, and palladium products is evaluated every Wednesday and modified as necessary.

BILLING CODE 4810-37-P

FOR FURTHER INFORMATION CONTACT: Derrick Griffin; Sales and Marketing Directorate; United States Mint; 801 9th Street NW, Washington, DC 20220; or call 202-354-7579.

Authority: 31 U.S.C. 5111, 5112, & 9701.

Eric Anderson,
Executive Secretary, United States Mint.

[FR Doc. 2024-24989 Filed 10-25-24; 8:45 am]

BILLING CODE 4810-37-C